DEPARTMENT OF AGRICULTURE

Submission for OMB Review; Comment Request

September 26, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Swine 2006 Large and Small Enterprises.

OMB Control Number: 0579-NEW.

Summary of Collection: 7 U.S.C. 391, the Animal Industry Act of 1884, which established the precursor of the Animal and Plant Health Inspection Service (APHIS), Veterinary Services, the Bureau of Animal Industry, mandates collection and dissemination of animal health data and information. APHIS operates the National Animal Health Monitoring System (NAHMS), which collects, on a national basis, statistically valid and scientifically sound data on the prevalence and economic importance of livestock and poultry diseases and associated risk factors. NAHMS will initiate the fourth national data collection of swine through the Swine 2006 Study. The Swine 2006 Study is a part of an ongoing series of NAHMS studies on the U.S. Swine population. The swine study will consist of two components: A large-enterprise survey and a small-enterprise survey.

Need and Use of the Information: APHIS will use the information collected from both surveys to prepare descriptive reports and information sheets that will be disseminated to animal health officials, swine producers, stakeholders, and academia. Without this type of national data, the U.S. ability to detect trends in management, production, and health status that increases/decreases farm economy either directly or indirectly would be reduced to nonexistent.

Description of Respondents: Farms.

Number of Respondents: 6,503.

Frequency of Responses: Reporting: Other (once pre questionnaire).

Total Burden Hours: 11,769.

Animal and Plant Health Inspection Service

Title: Animal Welfare Act, Part 3.

OMB Control Number: 0579-0093.

Summary of Collection: The Laboratory Animal Welfare Act (AWA) (Pub. L. 89-544) enacted August 24, 1966, and amended December 24, 1970 (Pub. L. 91-579); April 22, 1976 (Pub. L. 94-279); and December 23, 1985 (Pub. L. 99-198) required the U.S. Department of Agriculture (USDA) to regulate the humane care and handling of most warm-blooded animals, including marine mammals, used for research or exhibition purposes, sold as pets, or transported in commerce. The legislation and its amendments were the result of extensive demand by organized animal welfare groups and private citizens requesting a Federal law to protect such animals. The Animal and Plant Health Inspection Service (APHIS), Animal Care (AC) has the responsibility to enforce the AWA and the provisions of 9 CFR, Chapter 1, Subchapter A, which implements the AWA.

Need and Use of the Information: APHIS will collect information to insure that animals used in research facilities or for exhibition purposes are provided humane care and treatment. The information is used to ensure those dealers, exhibitors, research facilities, carriers, etc., are in compliance with the Animal Welfare Act and regulations and standards promulgated under this authority of the Act.

Description of Respondents: Business or other for-profit; Not for-profit institutions; State, Local or Tribal Government.

Number of Respondents: 10,217.

Frequency of Responses: Recordkeeping; Reporting: On occasion.

Total Burden Hours: 47,591.

Ruth Brown,
Departmental Information Collection Clearance Officer.

[FR Doc. E6-16192 Filed 9-29-06; 8:45 am]

BILLING CODE 3410-34-P